DEPARTMENT OF ENERGY

Federal Energy Regulatory Commission

Privacy Act of 1974; System of Records

AGENCY: Federal Energy Regulatory Commission (FERC), DOE.

ACTION: Notice of a modified system of records.

SUMMARY: In accordance with the Privacy Act of 1974, all agencies are required to publish in the Federal Register a notice of their systems of records. Notice is hereby given that the Federal Energy Regulatory Commission (FERC) is publishing a notice of modifications to an existing FERC system of records titled “Commission Correspondence Records (FERC—51).

DATES: Comments on this modified system of records must be received no later than 30 days after date of publication in the Federal Register. If no public comment is received during the period allowed for comment or unless otherwise published in the Federal Register by FERC, the modified system of records will become effective a minimum of 30 days after date of publication in the Federal Register. If FERC receives public comments, FERC shall review the comments to determine whether any changes to the notice are necessary.

ADDRESSES: Comments may be submitted in writing to Federal Energy Regulatory Commission, 888 First Street NE, Washington, DC 20426, or electronically to privacy@ferc.gov. Comments should indicate that they are submitted in response to “Commission Correspondence Records (FERC—51).”

FOR FURTHER INFORMATION CONTACT: Mittal Desai, Chief Information Officer & Senior Agency Official for Privacy, Office of the Executive Director, Federal Energy Regulatory Commission, 888 First Street NE, Washington, DC 20426, (202) 502-6432.

SUPPLEMENTARY INFORMATION: In accordance with the Privacy Act of 1974, and to comply with the Office of Management and Budget (OMB) Memorandum M-17-12, Preparing for and Responding to a Breach of Personally Identifiable Information, January 3, 2017, this notice has twelve (12) new routine uses, including two routine uses that will permit FERC to disclose information as necessary in response to an actual or suspected breach that pertains to a breach of its own records or to assist another agency in its efforts to respond to a breach that was previously published separately at 87 FR 35543 (June 10, 2022).

The following sections have been updated to reflect changes made since the publication of the last notice in the Federal Register: dates; addresses; for further contact information; system location; system manager; purpose of the system; categories of individuals covered by the system; categories of records in the system; record source categories; routine uses of records maintained in the system, including categories of users and the purpose of such; policies and practices for storage of records; policies and practices for retrieval of records; policies and practices for retention and disposal of records; administrative, technical, physical safeguards; records access procedures; contesting records procedures; notification procedures; and history.

SYSTEM NAME AND NUMBER:

Commission Correspondence Records (FERC—51).

SECURITY CLASSIFICATION:

Unclassified.

SYSTEM LOCATION:

Federal Energy Regulatory Commission, Office of External Affairs, Congressional Affairs Division and Intergovernmental and Public Affairs Division, 888 First Street NE, Washington, DC 20426.

SYSTEM MANAGER(S):

Office Administrative Coordinator, Congressional Affairs Division, Office of External Affairs, Federal Energy Regulatory Commission, 888 First Street NE, Washington, DC 20426.

AUTHORITY FOR MAINTENANCE OF THE SYSTEM:

42 U.S.C. 7172.

PURPOSE(S)

The purpose of this system of records is to process incoming and outgoing correspondence; to maintain records of correspondences between the Commission and Congress, State and Local Officials, other Federal Officials, constituents, vendors, and members of the public; and to maintain a tracking system to ensure responses are completed in a timely manner and are forwarded to the appropriate offices.

CATEGORIES OF INDIVIDUALS COVERED BY THE SYSTEM

The categories of individuals covered by the system are: members of the United States Congress, Congressional constituents who have requested information from the Commission, State and Local Officials, other Federal Officials, vendors, and members of the public who send correspondence to or receive correspondence from the Commission.

CATEGORIES OF RECORDS IN THE SYSTEM

The categories of records in the system include: name, address, email address, log/control number, telephone number, office, date, signature, title, company name and contact information (such as company address, company website, company telephone number), description, and type of request, docket number, tracking information, and incoming and outgoing correspondence. On rare occasions, the Commission receives correspondence that includes constituents' personal information such as social security numbers.

RECORD SOURCE CATEGORIES

Records are obtained from corresponding Senators, Representatives and Congressional constituents, State and Local Officials, other Federal Officials, vendors, members of the public and Commission staff who prepare responses and correspondence.

ROUTINE USES OF RECORDS MAINTAINED IN THE SYSTEM, INCLUDING CATEGORIES OF USERS AND THE PURPOSES OF SUCH USES

In addition to those disclosures generally permitted under 5 U.S.C. 552a(b) of the Privacy Act, information maintained in this system may be disclosed to authorized entities outside FERC for purposes determined to be relevant and necessary as a routine use pursuant to 5 U.S.C. 552a(b)(3) as follows:

1. To appropriate agencies, entities, and persons when (1) FERC suspects or has confirmed that there has been a breach of the system of records; (2) FERC has determined that as a result of the suspected or confirmed breach there is a risk of harm to individuals, the Commission (including its information systems, programs, and operations), the Federal Government, or national security; and (3) the disclosure made to such agencies, entities, and persons is reasonably necessary to assist in connection with the Commission's efforts to respond to the suspected or confirmed breach or to prevent, minimize, or remedy such harm.

2. To another Federal agency or Federal entity, when FERC determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

3. To a congressional office from the record of an individual in response to an inquiry from that congressional office made at the request of that individual.

4. To the Equal Employment Opportunity Commission (EEOC) when requested in connection with investigations of alleged or possible discriminatory practices, examination of Federal affirmative employment programs, or other functions of the Commission as authorized by law or regulation.

5. To the Federal Labor Relations Authority or its General Counsel when requested in connection with investigations of allegations of unfair labor practices or matters before the Federal Service Impasses Panel.

6. To disclose information to another Federal agency, to a court, or a party in litigation before a court or in an administrative proceeding being conducted by a Federal agency, when the Government is a party to the judicial or administrative proceeding. In those cases where the Government is not a party to the proceeding, records may be disclosed if a subpoena has been signed by a judge.

7. To the Department of Justice (DOJ) for its use in providing legal advice to FERC or in representing FERC in a proceeding before a court, adjudicative body, or other administrative body, where the use of such information by the DOJ is deemed by FERC to be relevant and necessary to the advice or proceeding, and such proceeding names as a party in interest: (a) FERC; (b) any employee of FERC in his or her official capacity; (c) any employee of FERC in his or her individual capacity where DOJ has agreed to represent the employee; or (d) the United States, where FERC determines that litigation is likely to affect FERC or any of its components.

8. To non-Federal Personnel, such as contractors, agents, or other authorized individuals performing work on a contract, service, cooperative agreement, job, or other activity on behalf of FERC or Federal Government and who have a need to access the information in the performance of their duties or activities.

9. To the National Archives and Records Administration in records management inspections and its role as Archivist.

10. To the Merit Systems Protection Board or the Board's Office of the Special Counsel, when relevant information is requested in connection with appeals, special studies of the civil service and other merit systems, review of OPM rules and regulations, and investigations of alleged or possible prohibited personnel practices.

11. To appropriate Federal, State, or local agency responsible for investigating, prosecuting, enforcing, or implementing a statute, rule, regulation, or order, if the information may be relevant to a potential violation of civil or criminal law, rule, regulation, order.

12. To appropriate agencies, entities, and person(s) that are a party to a dispute, when FERC determines that information from this system of records is reasonably necessary for the recipient to assist with the resolution of the dispute; the name, address, telephone number, email address, and affiliation; of the agency, entity, and/or person(s) seeking and/or participating in dispute resolution services, where appropriate.

POLICIES AND PRACTICES FOR STORAGE OF RECORDS:

Records are stored electronically on a SharePoint site, a shared drive, and an activity tracking management system. The Commission occasionally receives paper records. Paper records are scanned upon receipt and destroyed. Access to electronic records is controlled by the organizations Single Sign-On and Multi-Factor Authentication solution. Access is restricted to those individuals whose official duties require access.

POLICIES AND PRACTICES FOR THE RETRIEVAL OF RECORDS:

Records are retrieved by name and log number.

POLICIES AND PRACTICES FOR RETENTION AND DISPOSAL OF RECORDS:

Records are retained in accordance with the applicable National Archives and Records Administration schedules, with the following applicable General Records Schedules:

1. General Records Schedule (GRS) 4.1: Records Management Records, Item 010 available at https://www.archives.gov/files/records-mgmt/grs/grs04-1.pdf.

2. Genera Records Schedule (GRS) 6.4: General Public Records, Item 010 available at https://www.archives.gov/files/records-mgmt/grs/grs06-4.pdf.

3. Congressional Correspondence, State Files and Constituent Records, N1-138-00-007, Item 16 available at https://www.archives.gov/files/records-mgmt/rcs/schedules/departments/department-of-energy/rg-0138/n1-138-00-007_sf115.pdf.

ADMINISTRATIVE, TECHNICAL, AND PHYSICAL SAFEGUARDS:

See Policies and Practices for Storage of Records.

RECORD ACCESS PROCEDURES:

Individuals requesting access to the contents of records must submit a request through the Freedom of Information Act (FOIA) office. The FOIA website is located at: https://www.ferc.gov/foia. Requests may be submitted through the following portal: https://www.ferc.gov/enforcement-legal/foia/electronic-foia-privacy-act-request-form. Written requests for access to records should be directed to: Director, Office of External Affairs, Federal Energy Regulatory Commission, 888 First Street NE, Washington, DC 20426.

CONTESTING RECORD PROCEDURES:

See Records Access procedures.

NOTIFICATION PROCEDURES:

Generalized notice is provided by the publication of this notice. For specific notice, see Records Access Procedure, above.

EXEMPTIONS PROMULGATED FOR THE SYSTEM:

None.

HISTORY:

65 FR 21761 (April 24, 2000).

Dated: May 16, 2024.
Debbie-Anne A. Reese,
Acting Secretary.

[FR Doc. 2024-11243 Filed 5-21-24; 8:45 am]

BILLING CODE 6717-01-P